DEPARTMENT OF THE INTERIOR

Fish and Wildlife Service

[FWS-R4-ES-2014-N103; FXES11130400000C2-145-FF04E00000]

Endangered and Threatened Wildlife and Plants; Notice of Availability of a Technical/Agency Draft Recovery Plan for the Laurel Dace

AGENCY: Fish and Wildlife Service, Interior.

ACTION: Notice of availability and request for public comment.

SUMMARY: We, the Fish and Wildlife Service, announce the availability of the technical/agency draft recovery plan for the endangered laurel dace, a small fish native to the Tennessee River Basin in Tennessee. The draft recovery plan includes specific recovery objectives and criteria to be met in order for us to downlist the species to threatened status or delist it under the Endangered Species Act of 1973, as amended (Act). We request review and comment on this draft recovery plan from local, State, and Federal agencies, and the public.

DATES: In order to be considered, comments on the draft recovery plan must be received on or before March 16, 2015.

ADDRESSES: If you wish to review this technical/agency draft recovery plan, you may obtain a copy by contacting Geoff Call, U.S. Fish and Wildlife Service, Tennessee Field Office, 446 Neal Street, Cookeville, TN 38501; tel. (931) 525-4983, or by visiting either the Service's recovery plan Web site at http://www.fws.gov/endangered/species/recovery-plans.html or the Tennessee Field Office Web site at http://www.fws.gov/cookeville. If you wish to comment, you may submit your comments by one of the following methods:

1. You may submit written comments and materials to Geoff Call, at the above address.

2. You may hand-deliver written comments to our Tennessee Field Office, at the above address.

3. You may send comments by email to geoff_call@fws.gov.

For additional information about submitting comments, see the “Request for Public Comments” section below.

FOR FURTHER INFORMATION CONTACT: Geoff Call (see ADDRESSES, above).

SUPPLEMENTARY INFORMATION:

Introduction

We listed the laurel dace (Chrosomus saylori) as an endangered species under the Act (16 U.S.C. 1531 et seq.) on August 9, 2011 (76 FR 48722), and designated critical habitat for the species on October 16, 2012 (77 FR 63604). The laurel dace is a small fish native to the Tennessee River Basin in Tennessee. Laurel dace are known from headwater tributaries. This fish, from the family Cyprinidae, is found or collected from pools or slow runs from undercut banks or under slab boulders. The vegetation surrounding the first or second order streams where laurel dace occur includes mountain laurel, rhododendron, and hemlocks.

Historically, laurel dace is known from seven streams, and it currently occupies six of these, persisting in three creek systems on the Walden Ridge of the Cumberland Plateau. Only a few individuals have been collected from headwaters of the two creek systems in the southern part of their range, Soddy and Sale Creeks, although laurel dace are more abundant in headwaters of the Piney River system in their northern range. Threats to the laurel dace include: Land use activities that affect silt levels, temperature, or hydrologic processes of these small tributaries; invasive species, including sunfishes, basses, and hemlock woolly adelgid; the species' naturally small population size and geographic range; and climate change.

Background

Restoring an endangered or threatened animal or plant to the point where it is again a secure, self-sustaining member of its ecosystem is a primary goal of our endangered species program. To help guide the recovery effort, we prepare recovery plans for most listed species. Recovery plans describe actions considered necessary for conservation of the species, establish criteria for downlisting or delisting, and estimate time and cost for implementing recovery measures.

The Act requires the development of recovery plans for listed species, unless such a plan would not promote the conservation of a particular species. Section 4(f) of the Act requires us to provide a public notice and an opportunity for public review and comment during recovery plan development. We will consider all information we receive during a public comment period prior to approval of each new or revised recovery plan. We and other Federal agencies will take these comments into account in the course of implementing approved recovery plans.

Recovery Plan Specifics

Objectives for Reclassification and Delisting

The goal for this recovery plan is to conserve and recover populations of laurel dace to the point that listing under the Act is no longer necessary, which will require the following objectives to be accomplished. Because recovery and delisting will be a long and potentially unachievable goal, an intermediate goal for this recovery plan is to recover the species to the point that it could be reclassified from endangered to threatened.

Delisting

In order to recover laurel dace to the point that listing under the Act is no longer necessary, it will be necessary to conserve all existing populations by maintaining, and in some cases restoring, suitable habitat conditions in all streams where the species currently occurs. It will also be necessary to discover or establish one additional population.

Reclassification to Threatened

Reclassification to threatened status will be possible when habitat conditions in occupied streams are suitable for the conservation of the species, and viable populations are present throughout suitable habitat in five of the six currently occupied streams.

Criteria for Reclassification From Endangered to Threatened or Delisting

The following criteria will be used to determine whether the objectives for reclassification and delisting described above have been met. The criteria will be achieved by reducing or removing threats to the species' habitat and conserving or establishing viable populations throughout the species' range, as determined by monitoring of demographic and genetic parameters.

Reclassification From Endangered to Threatened

Criterion 1: Suitable instream habitat, flows, and water quality for laurel dace, as defined by Recovery Tasks 5.1 and 5.2, exist in occupied streams.

Criterion 2: Viable populations * are present throughout suitable habitat in Bumbee, Moccasin, and Youngs Creeks, and at least two of the following streams: Soddy or Cupp Creek or Horn Branch.

Delisting

Criterion 1: Suitable instream habitat, flows, and water quality for laurel dace exist in all occupied streams, and mechanisms exist to ensure that land use activities (including road maintenance) in catchments of streams inhabited by laurel dace will be compatible with the species' conservation for the foreseeable future. Such mechanisms could include, but are not necessarily limited to, conservation agreements, conservation easements, land acquisition, and habitat conservation plans.

Criterion 2: Viable populations * are present throughout suitable habitat in Bumbee, Moccasin, Youngs, Soddy, and Cupp Creeks and Horn Branch, and one additional viable population exists, either through reintroduction into Laurel Branch or discovery of an additional wild population.

* Viability: Populations will be considered viable when the following demographic and genetic conditions exist:

• Demographics—Monitoring data demonstrate that (a) populations are stable or increasing, (b) two or more age-classes are consistently present over a period of time encompassing five generations (i.e., 15 years), and (c) evidence of recruitment is not absent in more than three years or during consecutive years at any point within that period of time.

• Genetics—Populations will be considered to have sufficient genetic variation to be viable if measurements of observed number of alleles and estimates of heterozygosity and effective population size have remained stable or increased during the five generations used to establish demographic viability.

Request for Public Comments

We request written comments on the draft recovery plan. We will consider all comments we receive by the date specified in DATES prior to final approval of the plan.

Public Availability of Comments

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act, 16 U.S.C. 1533(f).

Dated: December 3, 2014.
Cynthia K. Dohner,
Regional Director, Southeast Region, U.S. Fish and Wildlife Service.

[FR Doc. 2015-00414 Filed 1-13-15; 8:45 am]

BILLING CODE 4310-55-P